DEPARTMENT OF ENERGY

Federal Energy Regulatory Commission

[Docket No. RP00-7-004]

Texas Eastern Transmission Corporation; Notice of Refund Report

July 12, 2000.

Take notice that on June 29, 2000, Texas Eastern Transmission Cororation (Texas Eastern) tendered for filing a refund report of Storage Cost Credit amounts totaling $145,767.07 credited to customers on their June 10, 2000, invoices. Texas Eastern states that the refund was made pursuant to the Commission's Order On Rehearing and Compliance issued on April 14, 2000, in Docket Nos. RP00-7-001 and RP00-7-002.

Any person desiring to protest said filing should file a protest with the Federal Energy Regulatory Commission, 888 First Street, NE., Washington, DC 20426, in accordance with Section 385.211 of the Commission's Rules and Regulations. All such protests must be filed on or before July 18, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-17999 Filed 7-14-00; 8:45 am]

BILLING CODE 6717-01-M